DEPARTMENT OF THE INTERIOR

National Park Service

Santa Cruz Island Primary Restoration Plan Draft Environmental Impact Statement, Channel Islands National Park, Santa Barbara County, California; Notice of Availability

SUMMARY: Pursuant to § 102(2)(c) of the National Environmental Policy Act of 1969 (Public Law 81-190 as amended), the National Park Service, Department of the Interior, has undertaken a conservation planning and environmental impact analysis effort assessing the potential impacts of restoring Santa Cruz Island by eradicating feral pigs from the island. A draft Environmental Impact Statement (DEIS) has been prepared which analyzes the foreseeable effects of implementing proposed actions that accomplish the following objectives: (1) Restore native plant communities; (2) protect plant species that have been listed as endangered or threatened under the Endangered Species Act; (3) reduce the spread of noxious weeds; (4) protect the native Island fox; (5) protect archeological sites; and (6) conserve soil resources on the island. The proposed action was developed in coordination with The Nature Conservancy, owners of 75% of Santa Cruz Island. The actions proposed in this DEIS are necessary because of the adverse ecological impacts the pigs are having on Santa Cruz Island.

Proposal: The proposal for eradicating pigs from Santa Cruz Island is to divide the island into six fenced zones and to sequentially eradicate pigs zone by zone. Approximately 45 miles of fence would be constructed along existing fence lines, thereby creating six distinct management units of about 12,000 acres each. Complete eradication would be achieved in each of the zones in a coordinated effort lasting approximately one year using trained, professional hunters. The techniques and tools for achieving the eradication goal would be similar to other pig eradication efforts such as neighboring Santa Rosa Island and Santa Catalina Island. A helicopter may occasionally be used to transport hunters or serve as a hunting platform.

The eradication campaign would occur in four distinct phases. Phase I (Administration, Infrastructure, and Acquisition) includes putting in place the necessary staff to oversee, manage, direct, and carry out the project including fencing and hunting contractors. It also includes bolstering current housing structures and establishing adequate communications on the island. Necessary equipment and supplies would also be secured at this time. Phase II (Fencing) involves constructing six distinct zones of pig-proof fence across the island. Hunting and trapping in a zone may begin as soon as the zone fence is completed, and prior to the next sequential zone fence being completed. Phase III (Hunting) involves eradicating pigs within a zone, then moving to the next zone in sequential order. Eradication techniques include trapping and baiting, as well as ground hunting with dogs. Once hunting commences, it is estimated that a near complete island-wide eradication could be achieved within six years. Phase IV (Final Hunting and Monitoring) is perhaps the most important, as the intention is to exhaustively search the island for remnant pigs and pig sign. A systematic protocol of monitoring for remnant feral pigs would be developed for the island. Monitoring of the island would continue for five years after elimination of the “last pig” in order to insure success. Long term ecological monitoring to assess ecosystem changes due to pig eradication would continue into the foreseeable future.

It has been determined that in order to successfully eradicate pigs from Santa Cruz Island that fennel will have to be controlled in areas where it has formed large dense thickets. These dense thickets of fennel create a safe harbor for pigs to escape from being hunted, and thus potential failure of the project. Fennel would be burned in the fall with a follow-up treatment of herbicide (Garlon 3A) in the two springs following the burn. The Nature Conservancy developed this protocol in an extensive 600-acre test program in the Central Valley of Santa Cruz Island. The fire and herbicide treatment would involve application by hand, from a vehicle, and from a helicopter.

Alternatives: After identifying the significant environmental issues associated with the proposed action, the Park began developing alternatives to the proposed action. Modifying the eradication strategies to address the environmental issue concerns was the basis used to develop alternatives. In all, three alternatives were developed, including the “No Action” Alternative (which maintains the existing minimal management). The two “action” alternatives are as follows: Alternative Two, “Simultaneous Island-wide Eradication of Pigs”, involves eradicating pigs island-wide without the use of fenced zones. A simultaneous island-wide operation would require several teams of hunters and dogs repeatedly working sections of the island. This is considered to be a high intensity effort for a short period of time, approximately 2-3 years in duration to have near complete eradication island-wide. Alternative Three would eradicate pigs from eastern Santa Cruz Island but only exclude pigs from selected sensitive resources on central and western Santa Cruz Island. Selected sensitive resources including archeological sites, and threatened and endangered plant species, would be protected from pigs by constructing and maintaining pig-proof fence around these selected sensitive sites.

SUPPLEMENTARY INFORMATION: Public meetings will be held in the area, with confirmed dates and locations to be announced on the park's website. The DEIS is now available for public review (distribution began during mid-February); copies can be obtained at the park, on the Park's website (http:www.nps.gov/chis/homepage/restoringsci.html), Ventura's Foster Library, and Santa Barbara's Central Library. After a reasonable number of printed copies have been made available, CD copies will be the preferred method of distribution of the DEIS. Inquiries and comments regarding the DEIS should be directed to: Superintendent, Channel Islands National Park, 1901 Spinnaker Dr, Ventura, California 93001. The telephone number for the park is (805) 658-5700.

All written comments must be postmarked on or before May 8, 2001 (as soon as this date has been determined it will be confirmed on the park's website). Persons wishing to express any new concerns about management issues and future land management direction are encouraged to address these to the Superintendent, as noted above. If individuals submitting comments request that their name or/and address be withheld from public disclosure, it will be honored to the extent allowable by law. Such requests must be stated prominently in the beginning of the comments. There also may be circumstances wherein the NPS will withhold a respondent's identity as allowable by law. As always, NPS will make available to public inspection all submissions from organizations or businesses and from persons identifying themselves as representatives or officials of organizations and businesses; and, anonymous comments may not be considered.

Decision: After the formal draft EIS review period has concluded, all comments and suggestions received will be considered in preparing a final EIS. The park expects to complete the final EIS during July 2001. Its availability will be announced in the Federal Register and in local and regional news media. Subsequently a Record of Decision would be executed no sooner than 30 (thirty) days after release of the final EIS. The official responsible for the final decision is the Regional Director, Pacific West Region; the official responsible for implementation is the Superintendent, Channel Islands National Park.

Dated: February 14, 2001.
Patricia L. Neubacher,
Acting Regional Director, Pacific West Region.

[FR Doc. 01-5948 Filed 3-8-01; 8:45 am]

BILLING CODE 4310-70-P